DEPARTMENT OF DEFENSE

Department of the Army, U.S. Army Corps of Engineers

Withdrawal of Notice of Intent To Prepare an Environmental Impact Statement for Western Lake Erie Basin, Blanchard River Watershed Study

AGENCY: Department of the Army, U.S. Army Corps of Engineers, DoD.

ACTION: Notice of withdrawal.

SUMMARY: The purpose of this notice is to inform the public that the non-Federal sponsor (Hancock County, Ohio) for the Blanchard River Watershed Study has decided to complete the design and construction of the proposed project. Therefore, the current NEPA process with the Corps of Engineers acting as the lead agency has been terminated, and notice to prepare an Environmental Impact Statement (EIS) and notice of availability are withdrawn.

FOR FURTHER INFORMATION CONTACT: Michael D. Pniewski, Project Manager, 1776 Niagara Street, Buffalo, NY 14207-3199, Telephone 419-726-9121; electronic mail: Michael.D.Pniewski@usace.army.mil.

SUPPLEMENTARY INFORMATION: On November 30, 2012, (77 FR 71404), the United States Army Corps of Engineers (USACE) in partnership with Hancock County (County) announced its intent to prepare an EIS in accordance with the National Environmental Policy Act of 1969 (NEPA) to evaluate proposed flood risk management and riparian wetland habitat restoration measures in the Blanchard River Watershed in the vicinity of the city of Findlay, Ohio. On April 10, 2015 (80 FR 19316), USACE and the County announced the availability of the Draft EIS (EIS No. 20150102). The Draft EIS evaluated the potential environmental impacts associated with the proposed Federal action and its reasonable alternatives. The purpose of the project was to reduce the risk of flooding and improve the overall quality of life for the residents of the Findlay area. Subsequent to the release of the Draft Detailed Project Report and EIS, the County has decided to proceed with the design and construction of the project without USACE involvement.

Adam J. Czekanski,
Lieutenant Colonel, Corps of Engineers, District Engineer.

[FR Doc. 2016-17828 Filed 7-27-16; 8:45 am]

BILLING CODE 3720-58-P